DEPARTMENT OF TRANSPORTATION

Surface Transportation Board

[STB Finance Docket No. 35326]

CSX Transportation, Inc.—Trackage Rights Exemption—Grand Trunk Western Railroad Company

Pursuant to a written trackage rights agreement, Grand Trunk Western Railroad Company (GTW) has agreed to grant limited overhead trackage rights to CSX Transportation, Inc. (CSXT) ¹ over GTW's Elsdon Subdivision, between milepost 30.92 at Munster, IN, and milepost 8.7 at Elsdon, IL, a distance of approximately 22.22 miles.²

¹ GTW is a subsidiary of Grand Trunk Corporation, which in turn is a subsidiary of Canadian National Railway Company. CSXT is a subsidiary of CSX Corporation.

² A redacted draft version of the trackage rights agreement between GTW and CSXT was filed with the notice of exemption. The full draft version was concurrently filed under seal along with a motion for protective order, which will be addressed in a separate decision.

The transaction may be consummated on or after February 27, 2010, the effective date of the exemption (30 days after the exemption was filed).

Under the agreement, the trackage rights will allow CSXT to handle trains between Thornton Junction and The Belt Railway Company of Chicago's Clearing Yard and CSX Intermodal's Bedford Park Intermodal Terminal over the Elsdon Subdivision. CSXT's initial plans are to reroute two sets of approximately 5,000 foot long high priority intermodal United Parcel Service (UPS) trains that originate or terminate at CSX Intermodal's Bedford Park Intermodal Terminal. The UPS trains handle freight to and from the southeastern region of the United States served by CSXT. The purpose of the transaction is to enable CSXT to reduce congestion on the Baltimore & Ohio Chicago Terminal's Blue Island Subdivision and enhance the efficiency of its operation in the Chicago area.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by February 19, 2010 (at least 7 days before the exemption becomes effective).

An original and 10 copies of all pleadings, referring to STB Finance Docket No. 35326, must be filed with the Surface Transportation Board, 395 E Street, SW., Washington, DC 20423-0001. In addition, a copy of each pleading must be served on Steven C. Armbrust, 500 Water Street, Suite J-150, Jacksonville, FL 32202, and Louis E. Gitomer, 600 Baltimore Ave., Suite 301, Towson, MD 21204.

Board decisions and notices are available on our Web site at http://www.stb.dot.gov.

Decided: February 5, 2010.
By the Board, Rachel D. Campbell, Director, Office of Proceedings.
Andrea Pope-Matheson,
Clearance Clerk.

[FR Doc. 2010-3020 Filed 2-16-10; 8:45 am]

BILLING CODE 4915-01-P